DEPARTMENT OF VETERANS AFFAIRS

Creating Options for Veterans Expedited Recovery (COVER) Commission; Notice of Meeting

In accordance with the Federal Advisory Committee Act, the Creating Options for Veterans Expedited Recover (COVER) Commission gives notice of a meeting to be held on September 12 and 13, 2019, at the VHA National Conference Center 2011 Crystal Drive, Crystal City, Virginia 22202. The public session on September 12, will begin at 9:00 a.m. and conclude at approximately 3:00 p.m. On September 13, the public session will begin at 9:00 a.m. and conclude at approximately 1:00 p.m. (all times Eastern).

The purpose of the COVER Commission is to examine the evidence-based therapy treatment model used by the Department of Veterans Affairs (VA) for treating mental health conditions of Veterans and the potential benefits of incorporating complementary and integrative health approaches as standard practice throughout the Department. The planned topics for this meeting include general discussion of commission research.

Members of the public are invited to attend open sessions in-person or via telephone listening line. Only a limited amount of seating will be available, and members of the public will be seated on a first come-first served basis. The listening line number is 800-767-1750; access code 48664# and it will be activated 10 minutes prior to each day's sessions. Members of the public utilizing the listening line are asked to confirm their attendance via an email to COVERCommission@va.gov. The videotaping or recording of Commission proceedings is discouraged as it may be disruptive to the Commission's work.

Any member of the public seeking additional information including copies of materials referenced during open sessions should email the Designated Federal Officer for the Commission, Mr. John Goodrich, at COVERCommission@va.gov. Although there will not be time allotted for members of the public to speak, the COVER Commission will accept written comments which may be sent to the email address noted. In communications with the Commission, the writers must identify themselves and state the organizations, associations, or persons they represent.

Dated: September 3, 2019.
LaTonya L. Small,
Federal Advisory Committee Management Officer.

[FR Doc. 2019-19301 Filed 9-5-19; 8:45 am]

BILLING CODE P